ENVIRONMENTAL PROTECTION AGENCY

40 CFR Part 52

[EPA-R06-OAR-2015-0832; FRL-9972-00-Region 6]

Approval and Promulgation of Implementation Plans; Texas; Reasonably Available Control Technology for Volatile Organic Compound Emissions in the Dallas-Fort Worth Ozone Nonattainment Area

AGENCY: Environmental Protection Agency (EPA).

ACTION: Final rule.

SUMMARY: Pursuant to the Federal Clean Air Act (CAA or the Act), the Environmental Protection Agency (EPA) is approving revisions to the State Implementation Plan (SIP) submitted by the State of Texas. The Texas SIP submission revises rules for control of volatile organic compounds (VOC) to assist the Dallas-Fort Worth (DFW) moderate nonattainment area (NAA) in attaining the 2008 8-hour ozone (O3) National Ambient Air Quality Standards (NAAQS) and demonstrates that Reasonably Available Control Technology (RACT) requirements are met for the DFW NAA. The submission includes Wise County, a county added as part of the DFW moderate NAA. We are approving the submitted rules and RACT demonstration as part of the DFW moderate NAA SIP and as meeting RACT requirements.

DATES: This rule is effective on January 22, 2018.

ADDRESSES: The EPA has established a docket for this action under Docket ID No. EPA-R06-OAR-2015-0832. All documents in the docket are listed on the http://www.regulations.gov website. Although listed in the index, some information is not publicly available, e.g., Confidential Business Information or other information whose disclosure is restricted by statute. Certain other material, such as copyrighted material, is not placed on the internet and will be publicly available only in hard copy form. Publicly available docket materials are available either electronically through http://www.regulations.gov or in hard copy at the EPA Region 6, 1445 Ross Avenue, Suite 700, Dallas, Texas 75202-2733.

FOR FURTHER INFORMATION CONTACT: Robert Todd, 214-665-2156, todd.robert@epa.gov.

SUPPLEMENTARY INFORMATION: Throughout this document “we,” “us,” and “our” means the EPA.

I. Background

On July 10, 2015 the Texas Commission on Environmental Quality (TCEQ) submitted rule revisions to their 30 TAC, Chapter 115 “Control of Air Pollution from Volatile Organic Compounds” and a demonstration that RACT requirements are met in the DFW NAA for inclusion into the Texas SIP. The background for this action is discussed in detail in our October 5, 2017 proposal, 82 FR 46450. In that document we proposed to approve the submitted TAC Chapter 115 SIP revisions into the SIP because these revisions will assist the DFW area reach attainment under the 2008 8-Hour O3 NAAQS by reducing VOC emissions for affected sources in the DFW area. We also proposed approval of all revisions for the amended, repealed, and new sections of Chapter 115 that were submitted for inclusion into the SIP. Additionally, the EPA proposed determining the TCEQ rules included in these revisions would meet the CAA § 182(b) RACT requirements for the 2008 O3 NAAQS in the DFW NAA. We also proposed approval of the RACT demonstration, including the negative declarations for certain RACT categories of emission sources provided by the TCEQ. We did not receive any comments regarding our proposal.

II. Final Action

We are approving the revisions to 30 TAC Chapter 115 submitted to the EPA on July 10, 2015, for inclusion into the Texas SIP. We are also approving the DFW RACT demonstration submitted by the TCEQ. For complete details of the SIP revisions we are approving please see the proposal to this action and the accompanying Technical Support Document included in the public docket for this rule. This action is being taken under section 110 of the Act.

III. Incorporation by Reference

In this rule, the EPA is finalizing regulatory text that includes incorporation by reference. In accordance with requirements of 1 CFR 51.5, the EPA is finalizing the incorporation by reference of the revisions to the Texas regulations as described in the Final Action section above. The EPA has made, and will continue to make, these materials generally available through www.regulations.gov and/or at the EPA Region 6 Office (please contact Robert Todd for more information). Therefore, these materials have been approved by EPA for inclusion in the SIP, have been incorporated by reference by EPA into that plan, are fully federally enforceable under sections 110 and 113 of the CAA as of the effective date of the final rulemaking of EPA's approval, and will be incorporated by reference by the Director of the Federal Register in the next update to the SIP compilation (62 FR 27968, May 22, 1997).

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 20, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Ozone, Reporting and recordkeeping requirements, Volatile organic compounds.

Dated: December 15, 2017.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart SS—Texas

2. In § 52.2270:

a. In paragraph (c), the table titled “EPA Approved Regulations In The Texas SIP” is amended:

i. By revising the entries for sections 115.10, 115.110-115.115, 115.117-115.119, 115.121 and 115.122, 115.125-115.127, 115.129, 115.139, 115.215, 115.219, 115.229, 115.239, and 115.359;

ii. By adding entries for 115.410 and 115.411;

iii. By revising the entries for 115.415 and 115.416;

iv. By removing the entry for 115.417;

v. By revising the entries for 115.419-115.423, 115.425-115.427, 115.429, 115.440-115.442, 115.446, 115.449-115.451, 115.453, 115.459-115.461, 115.469, 115.471, 115.473, 115.479, and 115.519;

b. In paragraph (e), the second table titled “EPA Approved Nonregulatory Provisions and Quasi-Regulatory Measures in the Texas SIP” is amended by adding an entry for “DFW VOC RACT Demonstration” at the end.

The revisions and additions read as follows:

§ 52.2270 Identification of plan.

* * * * *

(c) * * *

EPA Approved Regulations in the Texas SIP
State citation | Title/subject | State approval/ submittal date | EPA approval date | Explanation
* * * * * * *
Chapter 115 (Reg 5)—Control of Air Pollution from Volatile Organic Compounds
Subchapter A—Definitions
115.10 | Covered Attainment Counties | 6/15/2015 | 12/21/2017 [Insert Federal Register citation] |
* * * * * * *
Subchapter B—General Volatile Organic Compounds
Division 1: Storage of Volatile Organic Compounds
115.110 | Applicability and Definitions | 6/15/2015 | 12/21/2017 [Insert Federal Register citation] |
115.111 | Exemptions | 6/15/2015 | 12/21/2017 [Insert Federal Register citation] |
115.112 | Control Requirements | 6/15/2015 | 12/21/2017 [Insert Federal Register citation] |
* * * * * * *
115.114 | Inspection Requirements | 6/15/2015 | 12/21/2017 [Insert Federal Register citation] |
115.115 | Monitoring Requirements | 6/15/2015 | 12/21/2017 [Insert Federal Register citation] |
* * * * * * *
115.117 | Approved Test Methods | 6/15/2015 | 12/21/2017 [Insert Federal Register citation] |
115.118 | Recordkeeping Requirements | 6/15/2015 | 12/21/2017 [Insert Federal Register citation] |
115.119 | Compliance Schedules | 6/15/2015 | 12/21/2017 [Insert Federal Register citation] |
Division 2: Vent Gas Control
* * * * * * *
115.121 | Emissions Specifications | 6/15/2015 | 12/21/2017 [Insert Federal Register citation] |
115.122 | Control Requirements | 6/15/2015 | 12/21/2017 [Insert Federal Register citation] |
* * * * * * *
115.125 | Testing Requirements | 6/15/2015 | 12/21/2017 [Insert Federal Register citation] |
115.126 | Monitoring and Recordkeeping Requirements | 6/15/2015 | 12/21/2017 [Insert Federal Register citation] |
115.127 | Exemptions | 6/15/2015 | 12/21/2017 [Insert Federal Register citation] |
115.129 | Counties and Compliance Schedules | 6/15/2015 | 12/21/2017 [Insert Federal Register citation] |
Division 3: Water Separation
* * * * * * *
115.139 | Counties and Compliance Schedules | 6/15/2015 | 12/21/2017 [Insert Federal Register citation] |
Subchapter C—Volatile Organic Compound Transfer Operations
Division 1: Loading and Unloading of Volatile Organic Compounds
* * * * * * *
115.215 | Approved Test Methods | 6/15/2015 | 12/21/2017 [Insert Federal Register citation] |
* * * * * * *
115.219 | Counties and Compliance Schedules | 6/15/2015 | 12/21/2017 [Insert Federal Register citation] |
* * * * * * *
Division 2: Filling of Gasoline Storage Vessels (Stage I) for Motor Vehicle Fuel Dispensing Facilities
* * * * * * *
115.229 | Counties and Compliance Schedules | 6/15/2015 | 12/21/2017 [Insert Federal Register citation] |
Division 3: Control of Volatile Organic Compound Leaks from Transport Vessels
* * * * * * *
115.239 | Counties and Compliance Schedules | 6/15/2015 | 12/21/2017 [Insert Federal Register citation] |
Subchapter D—Petroleum Refining, Natural Gas Processing, And Petrochemical Processes
Division 3: Fugitive Emission Control in Petroleum Refining, Natural Gas/Gasoline Processing, and Petrochemical Processes in O3 Nonattainment Areas
* * * * * * *
115.359 | Counties and Compliance Schedules | 6/15/2015 | 12/21/2017 [Insert Federal Register citation] |
Subchapter E—Solvent-Using Processes
Division 1: Degreasing Processes
§ 115.410 | Applicability | 6/15/2015 | 12/21/2017 [Insert Federal Register citation] |
§ 115.411 | Exemptions | 6/15/2015 | 12/21/2017 [Insert Federal Register citation] |
* * * * * * *
115.415 | Testing | 6/15/2015 | 12/21/2017 [Insert Federal Register citation] |
115.416 | Recordkeeping Requirements | 6/15/2015 | 12/21/2017 [Insert Federal Register citation] |
115.417 | Exemptions | 6/15/2015 | 12/21/2017 [Insert Federal Register citation] |
115.419 | Counties and Compliance Schedules | 6/15/2015 | 12/21/2017 [Insert Federal Register citation] |
Division 2: Surface Coating Processes
115.420 | Applicability and Definitions | 6/15/2015 | 12/21/2017 [Insert Federal Register citation] |
115.421 | Emissions Specifications | 6/15/2015 | 12/21/2017 [Insert Federal Register citation] |
115.422 | Control Requirements | 6/15/2015 | 12/21/2017 [Insert Federal Register citation] |
115.423 | Alternate Control Requirements | 6/15/2015 | 12/21/2017 [Insert Federal Register citation] |
* * * * * * *
115.425 | Testing Requirements | 6/15/2015 | 12/21/2017 [Insert Federal Register citation] |
115.426 | Monitoring and Recordkeeping Requirements | 6/15/2015 | 12/21/2017 [Insert Federal Register citation] |
115.427 | Exemptions | 6/15/2015 | 12/21/2017 [Insert Federal Register citation] |
115.429 | Counties and Compliance Schedules | 6/15/2015 | 12/21/2017 [Insert Federal Register citation] |
* * * * * * *
Division 4: Offset Lithographic Printing
115.440 | Applicability and Definitions | 6/15/2015 | 12/21/2017 [Insert Federal Register citation] |
115.441 | Exemptions | 6/15/2015 | 12/21/2017 [Insert Federal Register citation] |
115.442 | Control Requirements | 6/15/2015 | 12/21/2017 [Insert Federal Register citation] |
* * * * * * *
115.446 | Monitoring and Recordkeeping Requirements | 6/15/2015 | 12/21/2017 [Insert Federal Register citation] |
115.449 | Compliance Schedules | 6/15/2015 | 12/21/2017 [Insert Federal Register citation] |
Division 5: Control Requirements for Surface Coating Processes
115.450 | Applicability and Definitions | 6/15/2015 | 12/21/2017 [Insert Federal Register citation] |
115.451 | Exemptions | 6/15/2015 | 12/21/2017 [Insert Federal Register citation] |
115.453 | Control Requirements | 6/15/2015 | 12/21/2017 [Insert Federal Register citation] |
* * * * * * *
15.459 | Counties and Compliance Schedules | 6/15/2015 | 12/21/2017 [Insert Federal Register citation] |
Division 6: Industrial Cleaning Solvents
115.460 | Applicability and Definitions | 6/15/2015 | 12/21/2017 [Insert Federal Register citation] |
115.461 | Exemptions | 6/15/2015 | 12/21/2017 [Insert Federal Register citation] |
* * * * * * *
115.469 | Compliance Schedules | 6/15/2015 | 12/21/2017 [Insert Federal Register citation] |
Division 7: Miscellaneous Industrial Adhesives
* * * * * * *
115.471 | Exemptions | 6/15/2015 | 12/21/2017 [Insert Federal Register citation] |
115.473 | Control Requirements | 6/15/2015 | 12/21/2017 [Insert Federal Register citation] |
* * * * * * *
115.479 | Compliance Schedules | 6/15/2015 | 12/21/2017 [Insert Federal Register citation] |
Subchapter F—Miscellaneous Industrial Sources
Division 1: Cutback Asphalt
* * * * * * *
115.519 | Compliance Schedules | 6/15/2015 | 12/21/2017 [Insert Federal Register citation] |
* * * * * * *

* * * * *

(e) * * *

EPA Approved Nonregulatory Provisions and Quasi-Regulatory Measures in the Texas SIP
Name of SIP provision | Applicable geographic or non-attainment area | State submittal/ effective date | EPA approval date | Comments
* * * * * * *
DFW VOC RACT Demonstration | DFW 2008 Ozone NAAQS non-attainment area | 7/10/2015 | 12/21/2017 [Insert Federal Register citation] |

[FR Doc. 2017-27453 Filed 12-20-17; 8:45 am]

BILLING CODE 6560-50-P